DEPARTMENT OF AGRICULTURE

Agricultural Marketing Service

7 CFR Part 51

[Document Number AMS-SC-18-0081, SC-19-329]

Removal of U.S. Grade Standards

AGENCY: Agricultural Marketing Service, USDA.

ACTION: Affirmation of interim rule as final rule.

SUMMARY: The Department of Agriculture (USDA) is adopting, as a final rule, without change, an interim rule that removed seven voluntary U.S. grade standards and one consumer standard for fresh fruits and vegetables from the Code of Federal Regulations (CFR). The removal will save the Agricultural Marketing Service (AMS) resources as the cost of printing the eight standards annually exceeds the benefits of their further inclusion in the CFR.

DATES: Effective July 16, 2019.

FOR FURTHER INFORMATION CONTACT: Lindsay H. Mitchell, Standardization Specialist, USDA, Specialty Crops Inspection Division, 100 Riverside Parkway, Suite 101, Fredericksburg, VA 22406; phone (540) 361-1120; fax (540) 361-1199; or email Lindsay.Mitchell@usda.gov.

SUPPLEMENTARY INFORMATION:

Background

In an interim rule ¹ that was published in the Federal Register and became effective on February 1, 2019 (84 FR 959-961, Document Number AMS-SC-18-0081), AMS removed the following eight standards from 7 CFR part 51: U.S. Standards for Grades of Cantaloups, U.S. Standards for Celery, U.S. Consumer Standards for Celery Stalks, U.S. Standards for Persian (Tahiti) Limes, U.S. Standards for Grades of Peaches, U.S. Standards for Grades of Apricots, U.S. Standards for Grades of Nectarines, and U.S. Standards for Grades of Honey Dew and Honey Ball Type Melons. None of the eight voluntary standards removed from the CFR are related to a current active marketing order, import regulation, or export act. This action will save the cost of printing the eight standards in the CFR annually.

¹ To view the interim rule, go to https://www.regulations.gov/document?D=AMS-SC-18-0081-0001.

No comments were received on the interim rule by the April 2, 2019 due date, so AMS is adopting the interim rule as a final rule, without change, for the reasons given in the interim rule.

This action also affirms the information contained in the interim rule concerning Executive Orders 12866 and the Regulatory Flexibility Act, Executive Orders 13563, 13175, and 12988.

Further, for this action, the Office of Management and Budget has waived its review under Executive Order 12866. Because review of this rule is waived, this action does not trigger the requirements of Executive Order 13771.

List of Subjects in 7 CFR Part 51

Food grades and standards, Fruits, Nuts, Reporting and recordkeeping requirements, Vegetables.

PART 51—FRESH FRUITS, VEGETABLES, AND OTHER PRODUCTS (INSPECTION, CERTIFICATION, AND STANDARDS)

Accordingly, the interim rule that amended 7 CFR part 51 that was published at 84 FR 959 on February 1, 2019, is adopted as final without change.

Dated: July 11, 2019.
Bruce Summers,
Administrator, Agricultural Marketing Service.

[FR Doc. 2019-15060 Filed 7-15-19; 8:45 am]

BILLING CODE 3410-02-P